DEPARTMENT OF THE INTERIOR

Bureau of Land Management

[LLCOF00000 L19900000.XZ0000]

Notice of Meeting, Front Range Resource Advisory Council

AGENCY: Bureau of Land Management, Interior.

ACTION: Notice of Public Meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held on May 8, 2012, from 1 p.m. to 5 p.m., and May 9, 2012, from 8 a.m. to 1:30 p.m.

ADDRESSES: Orient Land Trust, 64393 County Road Gg, Crestone, CO, on Tuesday; and Hampton Inn Alamosa, 710 Mariposa Street, Alamosa, CO, on Wednesday.

FOR FURTHER INFORMATION CONTACT: Denise Adamic, Front Range RAC Coordinator, BLM Royal Gorge Field Office, 3028 E. Main St., Cañon City, CO 81212. Phone: (719) 269-8553. Email: dadamic@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in the BLM Front Range District, which includes the Royal Gorge Field Office (RGFO) and the San Luis Valley Field Office. Planned topics of discussion items include: Trail work and native fish habitat restoration with the Orient Land Trust, visual resource management studies, and special recreation permits. The meeting will also include a tour of the Orient Land Trust projects on Tuesday and a field trip to the BLM Zapata Falls campground on Wednesday. The meeting is open to the public. The public is encouraged to make oral comments to the Council at 8:30 a.m. on Wednesday or written statements may be submitted for the Council's consideration. Summary minutes for the RAC meetings will be maintained in the RGFO and will be available for public inspection and reproduction during regular business hours within 30 days following the meeting. Previous meeting minutes and agendas are available at: www.blm.gov/co/st/en/BLM_Resources/racs/frrac/co_rac_minutes_front.html.

Dated: April 4, 2012.
Helen M. Hankins,
State Director.

[FR Doc. 2012-8586 Filed 4-9-12; 8:45 am]

BILLING CODE 4310-JB-P